DEPARTMENT OF DEFENSE

Office of the Secretary

[Docket ID: DoD-2024-OS-0098]

Proposed Collection; Comment Request

AGENCY: Office of the Assistant to the Secretary of Defense for Privacy, Civil Liberties, and Transparency (ATSD(PCLT)), Department of Defense (DoD).

ACTION: 60-Day information collection notice.

SUMMARY: In compliance with the Paperwork Reduction Act of 1995, the Office of the ATSD(PCLT) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 18, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Privacy and Civil Liberties Directorate, 4800 Mark Center Drive, Suite 05F16, Alexandria, VA 22350-1700, Samuel Gotti, 571-629-2648.

SUPPLEMENTARY INFORMATION:

Title; Associated Form; and OMB Number: Request for Individual Access and Consent for Disclosure to Records Protected Under the Privacy Act; DD Forms 3213 and 3214; OMB Control Number 0704-CASE.

Needs and Uses: This information collection requirement is necessary to allow an individual to request access to their records or to provide prior written consent authorizing disclosure of such records.

Affected Public: Current and former DoD employees and their authorized dependents.

Annual Burden Hours: 45,000.

Number of Respondents: 30,000.

Responses per Respondent: 2.

Annual Responses: 60,000.

Average Burden per Response: 45 Minutes.

Frequency: On occasion, when the subject of the record interacts with their respective Member of Congress by requesting access to and consenting to the disclosure of their records.

The Creating Advanced Streamlined Electronic Services for Constituents Act of 2019 (CASES Act) was enacted to modernize and simplify the process by which individuals can request access to and consent to the disclosure of their personal records held by Federal agencies. This Act addresses the inefficiencies and inconsistencies that previously existed in obtaining written consent for information disclosure. Under the Privacy Act of 1974, individuals have the right to access their records and control the disclosure of their personal information. However, the traditional process of obtaining written consent was often cumbersome, requiring physical signatures and manual transmission of forms. This not only delayed the resolution of constituent inquiries but also created variability in how different Components within DoD handled these requests. The CASES Act mandates the use of electronic access and consent forms, which can be submitted digitally. By allowing digital submissions, the Act aims to streamline the process, reduce delays, and enhance the efficiency of government services.

Dated: September 11, 2024.
Aaron T. Siegel,
Alternate OSD Federal Register Liaison Officer, Department of Defense.

[FR Doc. 2024-21031 Filed 9-16-24; 8:45 am]

BILLING CODE 6001-FR-P